DEPARTMENT OF COMMERCE

National Oceanic and Atmospheric Administration

[I.D. 102805E]

Vessel Monitoring Systems; Additional Approved Mobile Transmitting Units for use in the South Atlantic Rock Shrimp Fishery

AGENCY: National Marine Fisheries Service (NMFS), National Oceanic and Atmospheric Administration (NOAA), Commerce.

ACTION: Notice of vessel monitoring systems; additional approval.

SUMMARY: This document provides notice of vessel monitoring systems (VMS) approved by NOAA for use by vessels participating in the Rock Shrimp Fishery of the South Atlantic Region and sets forth relevant features of the VMS.

ADDRESSES: To obtain copies of the list of NOAA approved VMS mobile transmitting units and NOAA approved VMS communications service providers, or information regarding the status of VMS systems being evaluated by NOAA for approval, write to NOAA Fisheries Office for Law Enforcement (OLE), 8484 Georgia Avenue, Suite 415, Silver Spring, MD 20910.

To submit a completed and signed checklist, mail or fax it to NOAA Enforcement, 7600 Sand Point Way, Seattle, WA 98115, fax 206-526-6528. VMS provider addresses can be found in the SUPPLEMENTARY INFORMATION section of this notice under the heading VMS Provider Addresses.

FOR FURTHER INFORMATION CONTACT: For current listing information Mark Oswell, Outreach Specialist, phone 301-427-2300, fax 301-427-2055. For questions regarding VMS installation, activation checklists, and status of evaluations, contact Jonathan Pinkerton, National VMS Program Manager, phone 301-427-2300; fax 301-427-2055. For questions regarding the checklist, contact Beverly Lambert, Southeast Divisional VMS Program Manager, NMFS Office for Law Enforcement, Southeast Division, phone 727-824-5344.

The public may acquire this notice, installation checklist, and relevant updates by calling 301-427-2300.

SUPPLEMENTARY INFORMATION:

I. VMS Mobile Transceiver Units

BOATRACS - FMTC/G

The Boatracs satellite communications VMS transmitting unit that meets the minimum technical requirements for the Rock Shrimp Fishery is the FMTC/G. The address for the Boatracs distributor dealer contact is provided under the heading VMS Provider Addresses.

The FMTC/G is an integrated GPS two-way satellite communications system, consisting of two major hardware components, the Mobile Communication Transceiver (MCT) and the Enhanced Display Unit (EDU). The MCT contains the antenna and integrated GPS that communicates with the satellite and contains the operating circuitry and memory. The EDU is a shock and splash resistant display and keyboard unit consisting of, a liquid crystal display, keyboard, with adjustable contrast, brightness, and audible alerts. A backlight illuminates the display for night view. The EDU has message waiting, no signal, and audible message received indicators.

The MCT is 6.7 inches high, 11.4 inches wide and weighs 11 pounds (4.99 kg). The base of the unit is 6.595 inches in diameter. The MCT draws approximately 2.3 amps of current from the power supply while transmitting and 1.2 amps when the vessel is idle.

The EDU is a hardened and splash proof keyboard display unit with a 15-line X 40-character screen that allows for both text and graphics. It is 12.72 inches wide, 9.3 inches long, 2.21 inches in depth, and weighs 3 pounds (1.36 kg) and is holster mounted in the cabin.

II. Satellite Communication Services

The FMTC/G utilizes KU band geostationary satellite to provide two-way date services. The data satellite transmits and receives all two-way message traffic between the vessel and NMFS, Shore Office, Network Operations Center or third party. The satellite is located 22,300 miles over the equator at 103 W. Longitude (south of Florida).

Boatracs operates a redundant NOC. This facility is online 24 hours a day, 365 days a year, including holidays. Customer service representatives are available to relay messages and provide customer service. The NOC is also the facility that allows for automatic boat-to-boat, boat-to-email, boat-to-fax, and email-to-boat service. Data on demand and information services are also provided by the NOC.

Boatracs contracts their satellite communication services from QUALCOMM Corporation of California. QUALCOMM offers 24 hours a day 365 days a year network support, and operates fully redundant earth stations in California and Nevada.

VMS units must be installed in accordance with vendor instructions and specifications. All installation costs are paid by the owner. The vessel owner is required to fax or mail the Fisheries Off the West Coast States and in the (Western Pacific Pacific Coast Groundfish Fishery Activation Fax) directly to NOAA Enforcement, 7600 Sand Point Way, Seattle, WA 98115, fax 206-526-6528.

The owner must confirm the FMTC/G operation and communications service to ensure that position reports are automatically sent to and received by OLE before leaving on their first fishing trip requiring VMS. OLE does not regard the fishing vessel as meeting the requirements until position reports are automatically received. For confirmation purposes, owners must contact NOAA Enforcement, 7600 Sand Point Way, Seattle, WA 98115, voice 206-526-6135, fax 206-526-6528.

III. VMS Provider Addresses

Boatracs corporate office address is 9155 Brown Deer Rd, Suite 8, San Diego, CA 92121. Telephone numbers are toll free (877) 468-8722 and direct dialed (858) 458-8100. The primary point of contact is Lauri Paul, Fisheries Market Segment Executive, e-mail lpaul@boatracs.com, direct telephone number (858) 458-8113, and toll free (877) 468-8722 ext 113. The alternate contact is David Brandos, e-mail dbrandos@boatracs.com, direct telephone number (858) 458-8102, and toll free (877) 468-8722 ext 102.

Dated: December 1, 2005.
William T. Hogarth,
Assistant Administrator for Fisheries, National Marine Fisheries Service.

[FR Doc. E5-6899 Filed 12-5-05; 8:45 am]

BILLING CODE 3510-22-S